ENVIRONMENTAL PROTECTION AGENCY

[ER-FRL-6643-8]

Public Input Requested on the Proposed Yucaipa Valley Water District's Regional Non-Potable Water Distribution System Project, Yucaipa, CA

AGENCY: Environmental Protection Agency (EPA).

ACTION: Notice of Intent to initiate the scoping phase for public input in advance of preparing an Environmental Impact Statement (EIS) to fund the construction of a non-potable water distribution system. The source of the non-potable water would come from four sources: (1) A mixture of advanced tertiary treated wastewater (recycled water) generated at the Henry N. Wochholz Wastewater Treatment Plant (WWTP); (2) untreated surface water; (3) untreated imported water from the State Water Project; and (4) non-potable groundwater pumped from the Yucaipa Management Zone Groundwater basin to a lesser degree. Currently, the Yucaipa Valley Water District (District) discharges approximately 3.0 million gallons per day (mgd) of tertiary treated wastewater into San Timoteo Creek from the WWTP via an outfall located approximately 1.5 miles upstream of Redlands Boulevard. Some or all of the tertiary treated effluent would be withdrawn from San Timoteo Creek for use within the non-potable water distribution system.

Purpose: In accordance with Section 15082 of California Environmental Quality Act (CEQA) Guidelines, the District is the lead agency in the preparation of an Environmental Impact Report (EIR) for the proposed Regional Non-Potable Water Distribution System Project. In accordance with Section 1501.7 and 1508.22 of the National Environmental Policy Act (NEPA), the U.S. EPA is the lead agency in the preparation of an Environmental Impact Statement (EIS). The District and EPA are coordinating to prepare a joint EIR/EIS.

For Further Information, to Submit Comments, and To Be Placed on a Project Mailing List, Contact: Ms. Elizabeth Borowiec, U.S. Environmental Protection Agency, Mail Code WTR-4, 75 Hawthorne Street, San Francisco, California, 94105-3901, Telephone: (415) 972-3419 or FAX: (415) 947-3537 or E-mail at borowiec.elizabeth@epa.gov.

Summary: This Notice is to announce EPA and the District's intention to collect public comment in advance of preparing an EIS.

Need for Action: The Yucaipa Valley Water District is dependent on local groundwater sources, surface water and imported water to meet the potable water demands of its customers. Currently, these groundwater basins are experiencing an overdraft of 3,000 acre-feet per year. The proposed project would reduce the demand for potable water by up to 1,300 acre-feet per year under existing conditions.

Alternatives: The following proposed alternatives have been tentatively defined:

1. “Proposed Project”—A total of approximately 126,100 linear feet of pipeline, eight reservoirs and four pump stations would be constructed, maintained and operated to distribute non-potable water to markets identified in the Water Master Plan as Phase I and II customers. Approximately, 9,600 linear feet of pipeline would be constructed to discharge water to San Timoteo Creek at the Live Oak Road bridge crossing. Also, one existing reservoir (H-1) located near the proposed Casa Blanca golf course would be converted from potable to non-potable water storage, maintained and operated by the District as part of the non-potable water distribution system.

2. “A Reduced Distribution System Alternative”—A total of 39,900 linear feet of pipeline and two reservoirs would be constructed to distribute non-potable water to markets identified in the Water Master Plan as Phase I customers. Approximately, 9,600 linear feet of pipeline would be constructed to discharge water to San Timoteo Creek at the Live Oak Road bridge crossing. Also, one existing reservoir (H-1) located near the proposed Casa Blanca golf course would be converted from potable to non-potable water storage, maintained and operated by the District as part of the non-potable water distribution system.

3. “A No-Project Alternative”—Construction of a non-potable water distribution system would not occur.

Scoping: EPA is requesting written comments from federal, state, and local governments, industry, non-governmental organizations, and the general public on the need for action, the range of alternatives considered, and the potential impacts of the alternatives. Scoping comments will be accepted for 30 days, beginning with the date of this Notice. A public scoping meeting is scheduled for this proposed project on September 29, 2003 at 6:00 pm at the Yucaipa Valley Water District at 12770 Second Street in Yucaipa, California. Because of the time limits provided by State law, responses should be sent at the earliest possible date, but not later than October 14, 2003.

Estimated Date of Draft EIS Release: Spring 2004.

Dated: September 8, 2003.
Janet Bearden,
Environmental Protection Specialist, Environmental Protection Agency.

[FR Doc. 03-23308 Filed 9-11-03; 8:45 am]

BILLING CODE 6560-50-U